DEPARTMENT OF HEALTH AND HUMAN SERVICES

Administration for Children and Families

[CFDA Number: 93.583]

Announcement of the Award of Single-Source Grants Under the Wilson-Fish Alternative Program (W-F)

AGENCY: Office of Refugee Resettlement, ACF, HHS.

ACTION: Announcement of 13 single-source awards under the Wilson-Fish (W-F) Alternative Program.

SUMMARY: The Administration for Children and Families (ACF), Office of Refugee Resettlement (ORR), announces the award of 13 single-source grants for a total of $35,513,938 under the W-F Alternative Program.

DATES: September 30, 2015 through September 29, 2016.

FOR FURTHER INFORMATION CONTACT: Colleen Mahar-Piersma, Program Analyst, Office of Refugee Resettlement, Aerospace Building, 8th Floor West, 901 D Street SW., Washington, DC 20447. Telephone: 202-401-6891; Email: colleen.mahar-piersma@acf.hhs.gov.

SUPPLEMENTARY INFORMATION: The Wilson-Fish Alternative Program is intended to be an alternative to state-administered refugee assistance program that ensures that refugee assistance programs exist in every state where refugees are resettled. The W-F Alternative Program provides integrated assistance (cash and medical) and services (employment, case management, English language instruction, and other social services) to eligible clients in order to increase their prospects for early employment and self-sufficiency, reduce their level of welfare dependence, and promote coordination among voluntary resettlement agencies and service providers. W-F Alternative Program eligible clients include refugees, asylees, Amerasian Immigrants, Cuban and Haitian Entrants, Trafficking Victims, and Iraqi/Afghani Special Immigrant Visa holders.

The W-F Alternative Program, which operates in 13 states, is one of three models outlined in the ORR regulations for the purpose of providing refugee cash assistance (RCA) to new arrivals. The W-F Alternative Program utilizes a “one stop shop” model in which services and assistance are administered by a single agency.

Grant awards were made to 12 statewide W-F Alternative Programs in Alabama, Alaska, Colorado, Idaho, Kentucky, Louisiana, Massachusetts, Nevada, North Dakota, South Dakota, Tennessee, and Vermont. An award was also made to one countywide program in San Diego County, CA.

The W-F grant recipients are:

Grantee name | Location | Award amounts
Catholic Social Services | Mobile, AL | $414,037
Catholic Social Services | Anchorage, AK | 718,916
Colorado Department of Human Services | Denver, CO | 2,955,177
Jannus Inc.—Idaho Office for Refugees | Boise, ID | 2,304,414
Catholic Charities—Louisville | Louisville, KY | 4,856,018
Catholic Charities Diocese of Baton Rouge | Baton Rouge, LA | 1,463,000
Massachusetts Office of Refugees & Immigrants | Boston, MA | 3,814,588
Catholic Charities of Southern Nevada | Las Vegas, NV | 4,349,921
Lutheran Social Services of North Dakota | Fargo, ND | 1,378,169
Catholic Charities Diocese of San Diego | San Diego, CA | 3,534,100
Lutheran Social Services of South Dakota | Sioux Falls, SD | 841,890
Catholic Charities of Tennessee, Inc. | Nashville, TN | 8,299,523
US Committee for Refugees & Immigrants | Burlington, VT | 584,185

It is expected that ORR will continue to provide awards to the listed grantees for a 4-year project period. Grantees will be required to submit applications for noncompetitive awards for the subsequent years of the project period. Future noncompetitive awards will be based on the grantee's performance, the availability of funds, and the best interest of the Federal Government.

Statutory Authority: The Refugee Act of 1980 as amended, Wilson-Fish Amendment, Public Law 98-473, 8 U.S.C. 1522(e)(7); section 412(e)(7)(A) of the Immigration and Nationality Act.

Mary M. Wayland,
Senior Grants Policy Specialist, Division of Grants Policy, Office of Administration.

[FR Doc. 2016-19923 Filed 8-19-16; 8:45 am]

BILLING CODE 4184-01-P